DEPARTMENT OF THE INTERIOR

Bureau of Land Management

[BLM_OR_FRN_MO4500179562]

Notice of Availability of the Draft Resource Management Plan Amendment and Environmental Impact Statement for the Lakeview Field Office, Lakeview District, Oregon

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Resource Management Plan (RMP) Amendment and Draft Environmental Impact Statement (EIS) for the Lakeview RMP and by this notice is providing information announcing the opening of the comment period on the Draft RMP Amendment and Draft EIS.

DATES: This notice announces the opening of a 90-day comment period for the Draft RMP Amendment and Draft EIS beginning with the date following the Environmental Protection Agency's (EPA) publication of its Notice of Availability (NOA) in the Federal Register.

To afford the BLM the opportunity to consider comments in the forthcoming Proposed RMP Amendment and Final EIS, please ensure the BLM receives your comments prior to the close of the 90-day comment period or 15 days after the last public meeting, whichever is later.

ADDRESSES: The Draft RMP Amendment and Draft EIS is available for review on the BLM ePlanning project website at https://eplanning.blm.gov/eplanning-ui/project/114300/510.

Written comments related to the Lakeview Draft RMP Amendment and Draft EIS may be submitted by any of the following methods:

• website: https://eplanning.blm.gov/eplanning-ui/project/114300/510.

• Email: blm_or_lv_rmp_team@blm.gov.

• Mail: Lakeview District, BLM, 1301 South G Street, Lakeview, OR 97630.

Documents pertinent to this proposal may be examined online at https://eplanning.blm.gov/eplanning-ui/project/114300/510 and at the Lakeview District Office.

FOR FURTHER INFORMATION CONTACT: Michael Collins, Planning and Environmental Coordinator, 541-947-2177; 1301 South G Street, Lakeview, OR 97630; blm_or_lv_rmp_team@blm.gov. Individuals in the United States who are deaf, deafblind, hard of hearing, or have a speech disability may dial 711 (TTY, TDD, or TeleBraille) to access telecommunications relay services for contacting Mr. Collins. Individuals outside the United States should use the relay services offered within their country to make international calls to the point-of-contact in the United States.

SUPPLEMENTARY INFORMATION: This document provides notice that the BLM Oregon/Washington State Director has prepared a Draft RMP Amendment and Draft EIS. The Draft RMP Amendment and Draft EIS analyzes alternatives that would change the existing 2003 Lakeview RMP and Record of Decision (ROD), as amended by the 2015 Oregon Greater Sage-Grouse Approved RMP Amendment and ROD.

The planning area is located in Lake and Harney counties, Oregon, and encompasses approximately 3.2 million acres of public land.

Purpose and Need

The purpose and need for this Draft RMP Amendment and Draft EIS is to comply with the provisions of a 2010 settlement agreement, which required the BLM to prepare an RMP Amendment that addresses a range of alternatives for managing lands with wilderness characteristics, off highway vehicle (OHV) use, and livestock grazing use within the Lakeview planning area. The BLM has determined that 106 inventory units contain wilderness characteristics (approximately 1,654,103 acres).

Alternatives Including the Preferred Alternative

The BLM has analyzed six alternatives in detail, including the No Action Alternative. The No Action Alternative represents the continuation of existing management direction under the 2003 Lakeview RMP/ROD (as amended), including the existing goals and management direction for OHV and livestock grazing use. In addition, the interim management provisions outlined in the 2010 Settlement Agreement would continue to prevent management actions in an inventory unit determined by the BLM to possess wilderness characteristics that would be deemed by the BLM to diminish the size or cause the entire BLM inventory unit to no longer meet the criteria for wilderness characteristics.

Alternative A would continue the BLM's management direction under the 2003 Lakeview RMP/ROD (as amended), including the existing goals and management direction for OHV and livestock grazing use. Management would emphasize resources and multiple uses other than wilderness characteristics. None of the 106 units that the BLM found to possess wilderness characteristics would receive additional protections.

Alternative B would emphasize the protection of wilderness characteristics within all 106 units. Under Alternative B, 34 units and portions of 2 units (approximately 273,680 acres) would be designated as Wilderness Study Areas (WSAs) under section 202 of FLPMA. These proposed WSAs would be managed as visual resource management class I, land tenure zone 1 (retention in the public domain), exclusion zones for all rights-of-way, and would include restrictions on minerals. The remaining 77 units and portions of 2 units (approximately 1,381,610 acres) would be managed as visual resource management class II, land tenure zone 1 (retention in the public domain), exclusion zones for major rights-of-way, and include some restrictions on minerals. OHV use would be closed in all 106 units that the BLM has found to possess wilderness characteristics (approximately 1,654,103 acres) and in all WSAs. Cross-country motorized travel and motorized travel on existing internal primitive routes in these areas would be prohibited.

Under Alternative B, grazing allocations would not be changed. However, where existing livestock grazing is found to be a significant causal factor for non-attainment of rangeland health standards, the BLM would remove grazing, either at the allotment or pasture scale, for the duration of the plan amendment. Should the BLM receive a voluntary permit relinquishment for any lands with wilderness characteristics, WSAs, Areas of Critical Environmental Concern, Research Natural Areas, or designated critical habitat for Federally listed species, the BLM would remove or reduce grazing in the area for the life of the plan amendment.

Alternatives C, D, and E would establish new management goals and additional protective management for wilderness characteristics. The units emphasized for protection of wilderness characteristics would be managed as visual resource management class II, land tenure zone 1 (retention in the public domain), exclusion zones for major rights-of-way, and include restrictions on minerals. The specific units emphasized for protection of wilderness characteristics would vary across these alternatives. In addition, a 100 to 300-foot setback would be applied along boundary roads of these units under Alternatives C, D, and E, to provide the BLM with additional management flexibility to address other resources needs, threats, and multiple uses adjacent to these areas.

Alternative C would emphasize the protection of wilderness characteristics in 26 units and portions of 4 units (approximately 411,033 acres) that the BLM found to possess wilderness characteristics. The BLM would balance the management of wilderness characteristics with other resources and multiple uses in 71 units and portions of 2 units (approximately 1,161,199 acres) and would emphasize the management of other resources and multiple uses over wilderness characteristics in 5 units and portions of 3 units (approximately 74,529 acres).

Under Alternative C, OHV use throughout the entire planning area would be limited to existing routes, unless currently limited to designated routes or closed to OHV use. Grazing allocations would not be changed. However, the BLM would temporarily remove grazing, at either the allotment or pasture scale, when existing livestock grazing is found to be a significant causal factor for non-attainment of rangeland health standards, until such time as monitoring or a subsequent assessment indicates that the pasture or allotment is meeting standards or is making significant progress towards meeting standards. Should the BLM receive a voluntary permit relinquishment for public lands in a WSA, it would remove or reduce grazing in the area for the life of the plan amendment.

Alternative D would emphasize the protection of wilderness characteristics within two units (approximately 4,671 acres) that the BLM found to possess wilderness characteristics. OHV use in these 2 units would be limited to existing routes. Management of wilderness characteristics would be balanced with other resources and multiple uses in 41 units and portions of 18 units (approximately 1,075,323 acres). The BLM would emphasize the management of other resources and multiple uses over wilderness characteristics in 46 units (approximately 583,332 acres).

Under Alternative D, the area open to cross-country OHV use would be reduced to about 70,573 acres of expressly defined areas. Most of the livestock grazing management would be the same as the No Action Alternative. However, if a rangeland health assessment and evaluation indicates one or more standards are not met in an allotment or pasture due to factors that are subject to BLM control, then the authorized officer shall consider taking action to make progress toward rangeland health standards and land use plan objectives, even if livestock grazing is not determined to be a significant causal factor for non-attainment of standard(s). Actions available to the authorized officer could include, but are not limited to, changes in livestock grazing management.

Alternative E was developed with input from individual members of the Southeastern Oregon Resource Advisory Council and would emphasize the protection of wilderness characteristics within 26 units (approximately 372,218 acres) that the BLM found to possess wilderness characteristics. Management of wilderness characteristics would be balanced with other resources and multiple uses in 68 units (approximately 1,109,160 acres). Management would emphasize other resources and multiple uses over wilderness characteristics in 12 units (approximately 168,512 acres). OHV and livestock grazing management throughout the planning area would be the same as the No Action Alternative.

The BLM further considered seven additional alternatives but chose not to analyze them in detail as explained in the Draft RMP Amendment and Draft EIS.

The BLM Oregon/Washington State Director has identified Alternative C as the preferred alternative. Alternative C was found to best meet the State Director's planning guidance and, therefore, selected as the preferred alternative because it emphasizes a high level of resource protection in portions of the planning area while providing for a sustainable level of multiple uses in other portions of the planning area. This alternative balances the need to preserve or protect specific public lands in their natural condition with the need to provide food and habitat for fish, wildlife, and domestic animals, and provide for outdoor recreation and human occupancy and use. Alternative C also recognizes the Nation's need for domestic sources of minerals, food, timber, and fiber from the public lands. This balance would be accomplished within the limits of the ecosystem's ability to provide these multiple uses on a sustainable basis and within the constraints of applicable laws, regulations, and policies, including sections 102(7), 102(8), 102(12), 103(c), and 103(h) of FLPMA.

Schedule for the Decision-Making Process

The BLM will be holding three public meetings on the Draft RMP Amendment and Draft EIS in the following locations: One in-person meeting in Lakeview, Oregon, and two virtual meetings. The specific date(s) and location(s) of these meetings will be announced at least 15 days in advance through public notices, media releases, social media, and/or mailings.

The BLM will continue to consult with Indian Tribal Nations on a government-to-government basis in accordance with Executive Order 13175, BLM Manual 1780, and other Departmental policies. Tribal concerns, including impacts on Indian trust assets and potential impacts to cultural resources, will be given due consideration.

While the BLM has identified Alternative C as the preferred alternative, this does not represent the final agency decision. For this reason, the BLM encourages reviewers to provide substantive comments on all alternatives. Substantive comments are those that raise issues or concerns that may need to be addressed, challenge the accuracy of information presented, or challenge the adequacy of the analysis, along with a supporting rationale. You may submit written comments to the BLM through any of the methods identified in the ADDRESSES section above. All comments must be received by the end of the comment period or 15 days after the last public meeting, whichever is later. Whenever possible, reviewers should include a reference to either the page or section in the document to which the comment applies. Following the comment period, the BLM will develop and publish the Proposed RMP Amendment and Final EIS which may reflect changes or adjustments based on the substantive comments received.

Comments submitted must include the commenter's name and street address. Before including your address, phone number, email address, or other personal identifying information in your comment, you should be aware that your entire comment—including your personal identifying information—may be made publicly available at any time. While you can ask us in your comment to withhold your personal identifying information from public review, we cannot guarantee that we will be able to do so.

After the BLM publishes the Proposed RMP Amendment and Final EIS, it will provide additional opportunities for public participation consistent with the NEPA and land use planning processes, including a 30-day public protest period and a 60-day Governor's consistency review.

(Authority: 40 CFR 1506.6, 40 CFR 1506.10, 43 CFR 1610.2)

Barry R. Bushue,
State Director, Oregon/Washington.

[FR Doc. 2024-12463 Filed 6-6-24; 8:45 am]

BILLING CODE 4331-24-P